OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between October 1, 2008, and October 31, 2008. Future notices will be published on the fourth Tuesday of each month, or as soon as possible thereafter. A consolidated listing of all authorities as of September 30 is published each year.

Schedule A

No Schedule A appointments were approved for October 2008.

Schedule B

No Schedule B appointments were approved for October 2008.

Schedule C

The following Schedule C appointments were approved during October 2008.

Section 213.3303 Executive Office of the President

Office of Management and Budget

BOGS80013 Deputy General Counsel to the General Counsel and Senior Policy Advisor. Effective October 03, 2008.

Section 213.3304 Department of State

DSGS69756 Foreign Affairs Officer. Effective October 10, 2008.

DSGS69757 Protocol Assistant to the Foreign Affairs Officer (Visits). Effective October 16, 2008.

Section 213.3311 Department of Homeland Security

DMGS00764 Director of Private Sector Initiatives to the Director of External Affairs and Communications. Effective October 08, 2008.

DMGS00738 Deputy Director of Advance and Travel to the Director of Scheduling and Advance. Effective October 10, 2008.

DMGS00690 Advance Representative to the Director of Scheduling and Advance. Effective October 31, 2008.

Section 213.3315 Department of Labor

DLGS60171 Advance Representative to the Director of Planning, Scheduling, and Advance. Effective October 16, 2008.

DLGS60269 Director, Office of Faith Based Community Initiatives to the Deputy Secretary of Labor. Effective October 16, 2008.

Section 213.3316 Department of Health and Human Services

DHGS60131 Confidential Assistant to the Special Assistant to the Assistant Secretary for Health. Effective October 03, 2008.

DHGS60399 Special Assistant to the Assistant Secretary for Children and Families. Effective October 03, 2008.

Section 213.3317 Department of Education

DBGS00672 Confidential Assistant to the White House Liaison. Effective October 10, 2008.

Section 213.3323 Federal Communications Commission

FCGS80008 Special Assistant to the Chairman. Effective October 15, 2008.

Section 213.3325 United States Tax Court

JCGS60081 Chambers Administrator to the Chief Judge. Effective October 01, 2008.

CGS60058 Chambers Administrator to the Chief Judge. Effective October 03, 2008.

Section 213.3327 Department of Veterans Affairs

DVGS60058 Special Assistant to the Assistant Secretary for Public and Intergovernmental Affairs. Effective October 31, 2008.

DVGS60107 Legislative Assistant to the Assistant Secretary for Congressional and Legislative Affairs. Effective October 31, 2008.

Section 213.3331 Department of Energy

DEGS00679 Assistant Press Secretary to the Director, Public Affairs. Effective October 10, 2008.

Section 213.3332 Small Business Administration

SBGS00576 Deputy Assistant Administrator for the Office of Communications and Public Liaison to the Assistant Administrator for Communications and Public Liaison. Effective October 16, 2008.

Section 213.3337 General Services Administration

GSGS00170 Special Assistant to the Chief of Staff. Effective October 10, 2008.

Section 213.33 Merit System Protection Board

MPGS60014 Counsel to the Chairman. Effective October 07, 2008.

Section 213.338 National Endowment for the Humanities

NHGS90082 Special Assistant to the Chairman and Director of Government and Community Relations to the Deputy Chairman. Effective October 10, 2008.

Section 213.3384 Department of Housing and Urban Development

UGS60190 Special Policy Advisor to the Assistant Secretary for Housing, Federal Housing Commissioner. Effective October 03, 2008.

Section 213.3394 Department of Transportation

DTGS60364 Special Assistant for Transportation Policy to the Assistant Secretary for Transportation Policy. Effective October 10, 2008.

DTGS60357 Special Assistant to the White House Liaison and Scheduling and Advance to the Director for Scheduling and Advance. Effective October 24, 2008.

DTGS60311 Special Assistant to the Chief of Staff. Effective October 31, 2008.

Authority: 5 U.S.C. 3301 and 3302; E.O. 10577, 3 CFR 1954-1958 Comp., p. 218.

Office of Personnel Management.
Howard Weizmann,
Deputy Director.

[FR Doc. E8-29067 Filed 12-8-08; 8:45 am]

BILLING CODE 6325-39-P